INTERNATIONAL TRADE COMMISSION

[Investigation No. 337-TA-840]

Certain Semiconductor Integrated Circuit Devices and Products Containing Same; Determination Not To Review an Initial Determination Granting Complainant's Unopposed Motion for Leave To Amend the Complainant and Notice of Investigation

AGENCY: U.S. International Trade Commission.

ACTION: Notice.

SUMMARY: Notice is hereby given that the U.S. International Trade Commission has determined not to review the presiding administrative law judge's (“ALJ”) initial determination (“ID”) (Order No. 7) granting complainant's unopposed motion for leave to amend the Complaint and Notice of Investigation (“NOI”) in the above-referenced investigation.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 1, 2012, based on a complaint filed by Microchip Technology Incorporated of Chandler, Arizona (“Microchip”). 77 FR 25747-48 (May 1, 2012). The complaint alleges violations of section 337 of the Tariff Act of 1930, as amended, 19 U.S.C. 1337, in the importation into the United States, the sale for importation, and the sale within the United States after importation of certain semiconductor integrated circuit devices and products containing same by reason of infringement of certain claims of U.S. Patent Nos. 7,225,088; 6,245,597; 6,159,765; 5,760,720 (“the '720 patent”); 6,559,783; and 6,847,904. The complaint further alleges the existence of a domestic industry. The Commission's notice of investigation named as respondents Intersil Corporation of Milpitas, California; Zilker Labs, Inc. of Austin, Texas (“Zilker”); and Techwell LLC of Milpitas, California. The Office of Unfair Import Investigation was not named as a participating party.

On June 5, 2012, Microchip filed a motion for leave to amend its Complaint and the NOI to change the name of respondent Zilker to Zilker Labs LLC. The motion also sought leave to amend Exhibit 74 to the Complaint to correct a clerical error regarding the identification of a Microchip product that allegedly practices the `720 patent. The motion indicated that no party opposed Microchip's request.

On June 7, 2012, the ALJ issued the subject ID, granting Microchip's motion pursuant to section 210.14(b)(1) of the Commission's Rules of Practice and Procedure (19 CFR 210.14(b)(1)). No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: June 27, 2012.
Lisa R. Barton,
Acting Secretary to the Commission.

[FR Doc. 2012-16201 Filed 7-2-12; 8:45 am]

BILLING CODE 7020-02-P